DEPARTMENT OF TRANSPORTATION

Federal Aviation Administration

14 CFR Part 39

[Docket No. FAA-2013-0332; Directorate Identifier 2013-NM-009-AD; Amendment 39-17637; AD 2013-22-05]

RIN 2120-AA64

Airworthiness Directives; Bombardier, Inc. Airplanes

AGENCY: Federal Aviation Administration (FAA), Department of Transportation (DOT).

ACTION: Final rule.

SUMMARY: We are adopting a new airworthiness directive (AD) for certain Bombardier, Inc. Model CL-600-2B16 (CL-601-3A, CL-601-3R, and CL-604 Variants) airplanes. This AD was prompted by reports of airspeed mismatch between the pilot and co-pilot's airspeed indicators, which occurred during or after heavy rain. This AD requires, for certain airplanes, inspecting for drain bottles having certain part numbers, and replacing affected drain bottles. This AD requires, for certain other airplanes, replacing drain bottles. We are issuing this AD to prevent pitot static tubing from becoming blocked by water, which if not corrected, could lead to erroneous airspeed and altitude indications, and consequent loss of control of the airplane.

DATES: This AD becomes effective December 5, 2013.

The Director of the Federal Register approved the incorporation by reference of certain publications listed in this AD as of December 5, 2013.

ADDRESSES: You may examine the AD docket on the Internet at http://www.regulations.gov/#!docketDetail;D=FAA-2013-0332; or in person at the U.S. Department of Transportation, Docket Operations, M-30, West Building Ground Floor, Room W12-140, 1200 New Jersey Avenue SE., Washington, DC.

For service information identified in this AD, contact Bombardier, Inc., 400 Côte-Vertu Road West, Dorval, Québec H4S 1Y9, Canada; telephone 514-855-5000; fax 514-855-7401; email thd.crj@aero.bombardier.com; Internet http://www.bombardier.com. You may review copies of the referenced service information at the FAA, Transport Airplane Directorate, 1601 Lind Avenue SW., Renton, WA. For information on the availability of this material at the FAA, call 425-227-1221.

FOR FURTHER INFORMATION CONTACT: Cesar Gomez, Aerospace Engineer, Airframe and Mechanical Systems Branch, ANE-171, FAA, New York Aircraft Certification Office (ACO), 1600 Stewart Avenue, Suite 410, Westbury, New York 11590; telephone (516) 228-7318; fax (516) 794-5531.

SUPPLEMENTARY INFORMATION:

Discussion

We issued a notice of proposed rulemaking (NPRM) to amend 14 CFR part 39 by adding an AD that would apply to the specified products. The NPRM was published in the Federal Register on April 17, 2013 (78 FR 22806). The NPRM proposed to correct an unsafe condition for the specified products.

Transport Canada Civil Aviation, which is the aviation authority for Canada, has issued Canadian Airworthiness Directive CF-2012-30, dated December 7, 2012 (referred to after this as the Mandatory Continuing Airworthiness Information, or “the MCAI”), to correct an unsafe condition for the specified products. The MCAI states:

A number of reports were received from the operators indicating airspeed mismatch between the pilot and co-pilot's airspeed indicators. The erroneous indication occurred during or after heavy rain. Further investigation revealed that during heavy precipitation, the pitot static tubing may become partially or completely blocked by the water which didn't enter the drain bottle(s). This condition, if not corrected, may result in erroneous airspeed and altitude indications [and consequent loss of control of the airplane].

This [Canadian] AD mandates [for certain airplanes] the replacement of the drain bottles to improve drainage of the pitot-static tubing [and, for certain other airplanes, an inspection for, and replacement of, certain drain bottles].

You may examine the MCAI in the AD docket on the Internet at http://www.regulations.gov/#!documentDetail;D=FAA-2013-0332-0002.

Comments

We gave the public the opportunity to participate in developing this AD. We received no comments on the NPRM (78 FR 22806, April 17, 2013) or on the determination of the cost to the public.

Conclusion

We reviewed the available data and determined that air safety and the public interest require adopting the AD as proposed—except for minor editorial changes. We have determined that these minor changes:

• Are consistent with the intent that was proposed in the NPRM (78 FR 22806, April 17, 2013) for correcting the unsafe condition; and

• Do not add any additional burden upon the public than was already proposed in the NPRM (78 FR 22806, April 17, 2013).

Costs of Compliance

We estimate that this AD affects 77 airplanes of U.S. registry.

We estimate the following costs to comply with this AD:

Estimated Costs
Action | Labor cost | Parts cost | Cost per product | Cost on U.S. operators
Replacement | 5 work-hours × $85 per hour = $425 | $2,939 | $3,364 | $259,028

Where the service information lists required parts costs that are covered under warranty, we have assumed that there will be no charge for these parts. As we do not control warranty coverage for affected parties, some parties may incur costs higher than estimated here.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov/#!documentDetail;D=FAA-2013-0332-0002; or in person at the Docket Operations office between 9 a.m. and 5 p.m., Monday through Friday, except Federal holidays. The AD docket contains this AD, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-22-05 Bombardier, Inc.: Amendment 39-17637. Docket No. FAA-2013-0332; Directorate Identifier 2013-NM-009-AD.

(a) Effective Date

This airworthiness directive (AD) becomes effective December 5, 2013.

(b) Affected ADs

None.

(c) Applicability

This AD applies to the airplanes specified in paragraphs (c)(1) and (c)(2) of this AD, certificated in any category.

(1) Bombardier, Inc. Model CL-600-2B16 (CL-601-3A and CL-601-3R Variants) airplanes, serial numbers (S/Ns) 5001 through 5194 inclusive.

(2) Bombardier, Inc. Model CL-600-2B16 (CL-604 Variant) airplanes, S/Ns 5301 through 5665 inclusive, and 5701 through 5918 inclusive.

(d) Subject

Air Transport Association (ATA) of America Code 34, Navigation.

(e) Reason

This AD was prompted by reports of airspeed mismatch between the pilot and co-pilot's airspeed indicators, which occurred during or after heavy rain. We are issuing this AD to prevent pitot static tubing from becoming blocked by water, which if not corrected, could lead to erroneous airspeed and altitude indications, and consequent loss of control of the airplane.

(f) Compliance

You are responsible for having the actions required by this AD performed within the compliance times specified, unless the actions have already been done.

(g) Inspection and Replacement for Certain Model CL-600-2B16 (CL-601-3A and CL-601-3R) Variants Airplanes

For Model CL-600-2B16 (CL-601-3A and CL-601-3R Variants) airplanes having S/Ns 5001 through 5194 inclusive: Within 24 months after the effective date of this AD, inspect for drain bottles having part number (P/N) 50029-001, 50030-001, 9035000, 9035001, 9435014, 9435015, or 601A51704-5.

(1) If none of the part numbers identified in paragraph (g) of this AD are found, no further action is required by this paragraph for that airplane.

(2) If any part number identified in paragraph (g) of this AD is found: Before further flight, replace the drain bottles that are installed on the pitot and static lines of the air data computers (ADC), in accordance with the Accomplishment Instructions of Bombardier Service Bulletin 601-0617, Revision 03, dated December 20, 2012.

(h) Replacement for Certain Model CL-600-2B16 (CL-604 Variant) Airplanes

For Model CL-600-2B16 (CL-604 Variant) airplanes having S/Ns 5301 through 5665 inclusive: Within 24 months after the effective date of this AD, replace drain bottles installed on the pitot and static lines of the ADCs, in accordance with the Accomplishment Instructions of Bombardier Service Bulletin 604-34-065, Revision 02, dated December 20, 2012.

(i) Replacement for Certain Other Model CL-600-2B16 (CL-604 Variants) Airplanes

For Model CL-600-2B16 (CL-604 Variant) airplanes having S/Ns 5701 through 5918 inclusive: Within 24 months after the effective date of this AD, replace drain bottles installed on the pitot and static lines of the ADCs, in accordance with the Accomplishment Instructions of Bombardier Service Bulletin 605-34-027, Revision 02, dated December 20, 2012.

(j) Parts Installation Prohibitions

(1) As of the effective date of this AD, no person may install drain bottles having P/N 50029-001, 50030-001, 9035000, 9035001, 9435014, 9435015, or 601A51704-5 on any Model CL-600-2B16 (CL-601-3A and CL-601-3R Variants) airplane.

(2) As of the effective date of this AD, no person may install drain bottles having P/N 50029-001, 50030-001, 9035000, 9035001, 9435014, or 9435015 on the pitot and static lines of the ADCs; or drain bottles having P/N 50030-001, 50034-002, 9435014, or 9035001 on the pitot line of the integrated stand-by instrument (ISI); on any Model CL-600-2B16 (CL-604 Variant) airplanes, S/N 5301 through 5665 inclusive.

(3) As of the effective date of this AD, no person may install drain bottles having P/N 50029-001 or 50030-001 on the pitot and static lines of the ADCs; or P/N 50030-001 or 50034-002 on the pitot line of the ISI; on any Model CL-600-2B16 (CL-604 Variant) airplanes.

(k) Credit for Previous Actions

(1) This paragraph provides credit for actions required by paragraph (g) of this AD, if those actions were performed before the effective date of this AD using a service bulletin specified in paragraphs (k)(1)(i) through (k)(1)(iii) of this AD.

(i) Bombardier Service Bulletin 601-0617, Revision 02, dated November 14, 2012, which is not incorporated by reference in this AD.

(ii) Bombardier Service Bulletin 601-0617, Revision 01, dated November 12, 2012, which is not incorporated by reference in this AD.

(iii) Bombardier Service Bulletin 601-0617, dated July 31, 2012, which is not incorporated by reference in this AD.

(2) This paragraph provides credit for actions required by paragraph (h) of this AD, if those actions were performed before the effective date of this AD using a service bulletin specified in paragraph (k)(2)(i) or (k)(2)(ii) of this AD.

(i) Bombardier Service Bulletin 604-34-065, Revision 01, dated October 15, 2012, which is not incorporated by reference in this AD.

(ii) Bombardier Service Bulletin 604-34-065, dated July 31, 2012, which is not incorporated by reference in this AD.

(3) This paragraph provides credit for actions required by paragraph (i) of this AD, if those actions were performed before the effective date of this AD using a service bulletin specified in paragraph (k)(3)(i) or (k)(3)(ii) of this AD.

(i) Bombardier Service Bulletin 605-34-027, Revision 01, dated October 15, 2012, which is not incorporated by reference in this AD.

(ii) Bombardier Service Bulletin 605-34-027, dated July 31, 2012, which is not incorporated by reference in this AD.

(l) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

(1) Refer to Mandatory Continuing Airworthiness Information Canadian Airworthiness Directive CF-2012-30, dated December 7, 2012, for related information.

You may examine the MCAI in the AD docket on the Internet at http://www.regulations.gov/#!documentDetail;D=FAA-2013-0332-0002.

(2) Service information identified in this AD that is not incorporated by reference may be obtained at the address specified in paragraph (n)(3) of this AD

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Bombardier Service Bulletin 601-0617, Revision 03, dated December 20, 2012.

(ii) Bombardier Service Bulletin 604-34-065, Revision 02, dated December 20, 2012.

(iii) Bombardier Service Bulletin 605-34-027, Revision 02, dated December 20, 2012.

(3) For service information identified in this AD, contact Bombardier, Inc., 400 Côte-Vertu Road West, Dorval, Québec H4S 1Y9, Canada; telephone 514-855-5000; fax 514-855-7401; email thd.crj@aero.bombardier.com; Internet http://www.bombardier.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on October 15, 2013.
Jeffrey E. Duven,
Acting Manager, Transport Airplane Directorate, Aircraft Certification Service.

[FR Doc. 2013-25306 Filed 10-30-13; 8:45 am]

BILLING CODE 4910-13-P